DEPARTMENT OF HEALTH AND HUMAN SERVICES

Request for Comments on Scientific Questions To Be Examined To Support the Development of the Dietary Guidelines for Americans, 2025-2030

AGENCY: Department of Health and Human Services (HHS), Office of the Secretary, Office of the Assistant Secretary for Health, Office of Disease Prevention and Health Promotion; Department of Agriculture (USDA), Food, Nutrition, and Consumer Services.

ACTION: Notice.

SUMMARY: The Departments of Health and Human Services and Agriculture solicit written comments on the scientific questions to be examined in the review of evidence supporting the development of the Dietary Guidelines for Americans, 2025-2030.

DATES: The scientific questions are available for review and public comment. Electronic or written/paper comments will be accepted through midnight Eastern Time on May 16, 2022.

ADDRESSES: The scientific questions are available on the internet at www.DietaryGuidelines.gov. Comments and attachments submitted electronically or by paper will be posted to the www.regulations.gov docket. You may submit comments as follows:

• Electronic submissions: Follow the instructions for submitting comments at www.regulations.gov.

• Written/paper submissions: Mail/courier to Janet M. de Jesus, MS, RD, Office of Disease Prevention and Health Promotion (ODPHP) Office of the Assistant Secretary for Health (OASH), HHS; 1101 Wootton Parkway, Suite 420; Rockville, MD 20852.

SUPPLEMENTARY INFORMATION: Section 301 of the National Nutrition Monitoring and Related Research Act of 1990 (7 U.S.C. 5341) requires the Secretaries of HHS and USDA to publish the Dietary Guidelines for Americans (Dietary Guidelines) jointly at least every five years. The most recent edition of the Dietary Guidelines (2020-2025) provided guidance on the entire life span, from birth to older adulthood, including pregnancy and lactation. The Dietary Guidelines for Americans, 2025-2030 will continue to address what to eat and drink across the entire lifespan to meet nutrient needs, promote health, and reduce the risk of chronic disease.

The Departments are identifying scientific questions to be considered in the review of evidence to support the development of the Dietary Guidelines for Americans, 2025-2030. Given the prevalence of chronic diseases in the United States, scientific questions will continue to examine the relationship between diet and health outcomes, and a special emphasis will be placed on questions that address food-based strategies that can be used to help individuals implement the Dietary Guidelines and prevent or manage overweight and obesity. In establishing this list of scientific questions, the Departments are considering the following criteria for prioritization: relevance to the Dietary Guidelines, importance to public health, potential impact to federal programs, avoiding duplication with other federal efforts, and research availability. The list of questions, more information on the criteria for prioritization, and background on the process for developing the questions is available at www.dietaryguidelines.gov.

• Electronic or Written Public Comments: Comments will be accepted through 11:59 p.m. Eastern Time May 16, 2022 at www.regulations.gov. Comments received by mail/courier will be considered if they are postmarked on or before May 16, 2022. Written comments via mail/courier will be uploaded into www.regulations.gov and are under the same limitations as for those submitted electronically to www.regulations.gov: 5,000 (with spaces) character limit for text box, and a maximum number of ten attached files and maximum size (10 MB) of each attached file. Please make note of copyright issues on your attachments. A link to the www.regulations.gov electronic filing system will also be available at www.DietaryGuidelines.gov.

HHS and USDA request comments on the list of scientific questions to be examined in the review of evidence supporting the development of the Dietary Guidelines for Americans, 2025-2030. Specifically, HHS and USDA request comments in support of or opposition to the proposed scientific questions. If a new scientific question is suggested, provide a brief summary of the topic, including information pertaining to the prioritization criteria listed above. It is requested that comments be limited to one page per topic. HHS and USDA will consider all relevant comments in finalizing the list of topics and questions to be examined in the development of the Dietary Guidelines, 2025-2030.

Contact Person for Additional Information: Janet de Jesus, MS, RD, Nutrition Advisor, telephone 240-453-8266, Office of Disease Prevention and Health Promotion, U.S. Department of Health and Human Services, DietaryGuidelines@hhs.gov.

Dated: April 11, 2022.
Rachel L. Levine,
Assistant Secretary for Health, U.S. Public Health Service.

[FR Doc. 2022-08043 Filed 4-14-22; 8:45 am]

BILLING CODE 4150-32-P